DEPARTMENT OF VETERANS AFFAIRS

Advisory Committee on Structural Safety of Department of Veterans Affairs Facilities, Notice of Meeting

The Department of Veterans Affairs (VA) gives notice under the Federal Advisory Committee Act, 5 U.S.C. App. 2, that a meeting of the Advisory Committee on Structural Safety of Department of Veterans Affairs Facilities will be held on October 29-30, 2012, in Room 6W405, 425 I Street NW., Washington, DC. The session on October 29 will be from 9 a.m. until 5 p.m., and the session on October 30 will be from 8:30 a.m. until 12:30 p.m. The meeting is open to the public.

The purpose of the Committee is to advise the Secretary of Veterans Affairs on matters of structural safety in the construction and remodeling of VA facilities and to recommend standards for use by VA in the construction and alteration of its facilities.

On October 29, the Committee will review developments in the fields of fire safety issues and structural design as they relate to seismic and other natural hazards impact on the safety of buildings. On October 30, the Committee will receive appropriate briefings and presentations on current seismic, natural hazards, and fire safety issues that are particularly relevant to facilities owned and leased by the Department. The Committee will also discuss appropriate structural and fire safety recommendations for inclusion in VA's standards.

No time will be allocated for receiving oral presentations from the public. However, members of the public may submit written statements for review by the Committee to Krishna K. Banga, Senior Structural Engineer, Facilities Standard Service, Office of Construction & Facilities Management (003C2B), Department of Veterans Affairs, 425 I Street NW., Washington, DC 20001, or by email at Krishna.banga@va.gov. Any member of the public wishing to attend the meeting or seeking additional information should contact Mr. Banga at (202) 632-4694.

Dated: October 10, 2012.
By Direction of the Secretary:
Vivian Drake,
Committee Management Officer.

[FR Doc. 2012-25329 Filed 10-15-12; 8:45 am]

BILLING CODE 8320-01-P